DEPARTMENT OF LABOR

Employment and Training Administration

[TA-W-75,120A]

Steelcase, Inc., North America Division, Including On-Site Leased Workers From Manpower, Inc., Grand Rapids, MI; Amended Certification Regarding Eligibility To Apply for Worker Adjustment Assistance

In accordance with Section 223 of the Trade Act of 1974, as amended (“Act”), 19 U.S.C. 2273, the Department of Labor issued a Certification of Eligibility to Apply for Worker Adjustment Assistance on February 4, 2011, applicable to workers of Steelcase, Inc., North America Division, including on-site leased workers from Manpower, Inc., Grand Rapids, Michigan. The notice was published in the Federal Register on February 24, 2011 (76 FR 10399).

At the request of the State Agency, the Department reviewed the certification for workers of the subject firm. The workers are engaged in the production of office furniture.

The review shows that on December 9, 2008, a certification of eligibility to apply for adjustment assistance was issued for all workers of Steelcase, Inc., Global Headquarters, Grand Rapids, Michigan, separated from employment on or after November 20, 2007 through December 9, 2010. The notice was published in the Federal Register on December 30, 2008 (73 FR 79914).

In order to avoid an overlap in worker group coverage, the Department is amending the January 18, 2010 impact date established for TA-W-75,120A to read December 10, 2010.

The amended notice applicable to TA-W-75,120 and TA-W-75,120A are hereby issued as follows:

All workers of Steelcase, Inc., North America Division, including on-site leased workers from Manpower, Inc., Grand Prairie, Texas (TA-W-75,120), who became totally or partially separated from employment on or after January 18, 2010 through February 4, 2013, and all workers in the group threatened with total or partial separation from employment on date of certification through two years from the date of certification, are eligible to apply for adjustment assistance under Chapter 2 of Title II of the Trade Act of 1974, as amended and

All workers of Steelcase, Inc., North America Division, including on-site leased workers from Manpower, Inc., Grand Rapids, Michigan (TA-W-75,120A), who became totally or partially separated from employment on or after December 10, 2010 through February 4, 2013, and all workers in the group threatened with total or partial separation from employment on date of certification through two years from the date of certification, are eligible to apply for adjustment assistance under Chapter 2 of Title II of the Trade Act of 1974, as amended.

Signed in Washington, DC, this 24th day of February 2011.
Michael W. Jaffe,
Certifying Officer, Office of Trade Adjustment Assistance.

[FR Doc. 2011-5473 Filed 3-9-11; 8:45 am]

BILLING CODE 4510-FN-P